DEPARTMENT OF AGRICULTURE

Forest Service

Plumas National Forest, Beckwourth Ranger District; Plumas County, California Lake Davis Northern Pike Eradication Project

AGENCY: Forest Service, USDA.

ACTION: Notice of intent to prepare an environmental impact statement.

SUMMARY: The USDA Forest Service, Plumas National Forest, gives notice of the Agency's intent to prepare an Environmental Impact Statement (EIS) in cooperation with the California Department of Fish and Game (CDFG) issuing a joint Environmental Impact Report (EIR). The EIS will consider Federal and State actions associated with CDFG's proposal to eradicate northern pike, Esox lucius, from Lake Davis and its tributaries. Northern pike are restricted in California and it is unlawful to import, transport, or possess live animals. This proposed project is designed to help protect the fishery resources of the state by eradicating pike from Lake Davis and its upstream tributaries. CDFG has proposed to treat the reservoir and its tributaries with rotenone, at a concentration sufficient to eradicate northern pike and to restock the reservoir with trout. The associated actions are: (1) the Forest Service issuing CDFG a special use permit for access through, and use of National Forest lands adjacent to Lake Davis and its tributaries for implementing the proposed project. (2) a Forest order to close the entire area to the public during implementation of the proposed project and to close access to the lake bed as the lake level is lowered.

DATES: Comments concerning the scope of the analysis must be postmarked no later than October 31, 2005. The draft EIS is expected March 2006 and the final EIS is expected November 2006.

ADDRESSES: Send written comments to Julie Cunningham, P.O. Box 1858, Portola CA 96122. Email comments may be submitted to: northernpike@dfg.ca.gov. Comments may also be submitted at the Web site: http://www.dfg.ca.gov/northernpike.

FOR FURTHER INFORMATION CONTACT: California Department of Fish and Game, Portola Field Office, P.O. Box 1858, Portola, CA 96122, (530) 832-4068. U.S. Forest Service, Plumas National Forest Supervisors Office, Angela Dillingham, 159 Lawrence Street, P.O. Box 11500, Quincy CA 95971, (530) 283-2050.

SUPPLEMENTARY INFORMATION: Lake Davis is located in Plumas County, California, at an elevation of 5,775 feet above sea level. Included in the project area are Lake Davis, all the tributaries in the watershed to Lake Davis and Big Grizzly Creek below Lake Davis. These all occur in the upper reaches of the Middle Fork Feather River watershed in the Sierra Nevada Mountains. Lake Davis is a State Water Project reservoir that was first impounded in 1966-68 by the construction of Grizzly Valley Dam on Big Grizzly Creek. Three main tributaries, Big Grizzly, Freeman and Cow Creeks, feed the reservoir. The total drainage area is about 44 square miles. Lake Davis has a surface area of 4,025 acres when full, a capacity of 84,371 acre-feet and an average depth of 21 feet. The deepest point of the reservoir is 108 feet, just upstream of Big Grizzly Dam. The reservoir is operated by the California Department of Water Resources (CDWR), and lies within the U.S. Forest Service, Plumas National Forest.

Lake Davis water is used for recreation, irrigation, and for the benefit of fish and wildlife. It supports a trout fishery managed by CDFG. Lake Davis has been developed as a source of domestic water for the City of Portola and the Grizzly Lake Resort Improvement District. The Plumas County water treatment plant, which treats Lake Davis water, was taken offline, as it did not meet regulatory standards, and remains offline pending improvements to the water treatment plant. Currently neither entity uses Lake Davis as a water supply. Nearby residences depend on ground water from private wells.

Pike were first discovered in Lake Davis in 1994. In 1997, a chemical treatment was conducted to remove pike from Lake Davis and its tributary streams. Pike were rediscovered in Lake Davis in May 1999, about eighteen months following what appeared to be a successful rotenone treatment of the reservoir. In 2000 CDFG and the Lake Davis Steering Committee developed a management plan to suppress the pike population, contain it within Lake Davis and to remove as many pike as possible from the reservoir (to date approximately 50,000). In September 2003 CDFG evaluated the previous 3½ years of pike removal, which can be viewed on the Web at http://www.dfg.ca.gov/northenpike/summary_report.pdf. Data indicated pike numbers continued to increase in spite of the concerted control efforts.

Purpose and Need for Action

Pike are a nonnative invasive fish species illegally introduced to California. Pike can seriously impact aquatic ecosystems by heavy predation on other fish species, where habitat conditions are favorable. Introduced pike have the potential to become the dominant fish species, often to the near total exclusion of native fish species. Portions of the Feather River, Sacramento River, and the Sacramento-San Joaquin Delta, as well as many aquatic environments in other California watersheds, match the preferred habitat of the pike in terms of temperature, aquatic vegetation, current speed and other features. The geographical extent of pike in California is thought to be limited to Lake Davis and its upstream tributary streams. Lake Davis flows into the Middle Fork Feather River, which flows into Lake Oroville and then into the Sacramento River and the Sacramento-San Joaquin Delta. Within the Sacramento-San Joaquin Delta system, a number of fish species have life history stages and habitat preferences, that make them vulnerable to pike predation. These include the state and federally listed out migrating juveniles of winter and spring run Chinook salmon, steelhead and delta smelt. Other species of concern are splittail, Sacramento perch and a variety of fish species including stocked trout.

Based upon current knowledge of the physical and biological processes that influence the spread and impact of pike on aquatic ecosystems, the pike population in Lake Davis appears poised to have a serious and widespread environmental impact on California's aquatic ecosystems. If the pike population is not eradicated, biological and physical processes or physical movement by humans will eventually result in the spread of the pike population to downstream locations. The risk of such a spread has steadily increased since 1999 as the pike population in Lake Davis has increased in numbers. Due to the pike containment in just the Lake Davis area, a window of opportunity exists to eliminate the species from the state.

Proposed Action

The EIS proposed action is to issue the required Forest Service Special Use Permit needed to carry out CDFG's proposed project. This would include a Forest Closure in the immediate area surrounding Lake Davis for public safety and to protect archaeological sites. The CDFG proposed project involves the draw down of Lake Davis to a volume of about 10,000-20,000 acre-feet. A liquid rotenone formulation would then be applied to eliminate pike. The remaining water held in Lake Davis and any ponded water, and waters flowing into Lake Davis, potentially from the headwaters of the three main tributaries, Big Grizzly, Freeman and Cow Creeks, to the reservoir, or wetland areas, ponds etc., adjacent to the flowing waters that are tributary to Lake Davis within its watershed would be treated with liquid rotenone at concentrations sufficient to eradicate the pike. It is anticipated at this time that the concentration of rotenone used would be 2 ppm.

Possible Alternatives

To date, the following alternatives have been preliminarily identified: (1) Proposed Action (preferred alternative); (2) No action alternative that would continue the current management plan; (3) Draw down the reservoir to minimum pool (approximate surface area of 25 acres, remaining volume about 90 acre feet) and use liquid rotenone; (4) Draw reservoir down to 48,000 acre-feet and eradicate with liquid rotenone; (5) Completely dewater reservoir and tributaries.

Lead and Cooperating Agencies

The Forest Service is the lead agency in the preparation of the EIS. CDFG is the lead agency for the preparation of the EIR. Both agencies are cooperating to prepare a joint EIR/EIS.

Responsible Official

Angela L. Dillingham, District Ranger, Beckwourth Ranger District, P.O. Box 7, Blairsden, CA 96103.

Nature of Decision To Be Made

Whether to issue a special use permit to CDFG for access through, and use of, National Forest lands to Lake Davis for implementing the proposed northern pike eradication project. Whether to implement a Forest Closure during implementation of the proposed project.

Scoping Process

Public scoping meetings are scheduled as follows:

September 26, 2005, there will be two sessions, 1-3 pm and 6:30-9 pm, at the Easterm Plumas Health Care Education Center, 500 1st Avenue, Portola, California;

September 28, 2005, there will be two sessions, 1-3 pm and 6:30-9 pm, at the Radisson Hotel, 500 Leisure Lane, Sacramento, California.

Permits or Licenses Required

Approval from the following Agencies is required: U.S. Fish and Wildlife Service; U.S. Forest Service; Central Valley Regional Water Quality Control Board; California Department of Water Resources; California Department of Health Services; Northern Sierra Air Quality Management District; California Department of Pesticide Regulation; U.S. Army Corps of Engineers; Environmental Protection Agency.

Comment Requested

This notice of intent initiates the scoping process which guides the development of the EIS. Comments submitted during the scoping process should be in writing or e-mail, and should be specific to the proposed action. The comments should describe as clearly and completely as possible any point of dispute, debate or disagreement the commentater has with the proposed action. Once scoping letters are received, all potential issues will be identified to analyze in depth, and a reasonable range of alternatives will be developed to address those significant issues. Potential environmental effects of the proposed action as well as alternatives will be analyzed in the EIS.

Early Notice of Importance of Public Participation in Subsequent Environmental Review: A draft environmental impact statement (as part of a joint EIR/EIS) will be prepared for comment. The comment period on the draft EIS will be 45 days from the date the Environmental Protection Agency publishes the notice of availability in the Federal Register.The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period for the draft EIS so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: September 7, 2005.
Angela L. Dillingham,
District Ranger.

[FR Doc. 05-18204 Filed 9-13-05; 8:45 am]

BILLING CODE 3410-11-P